DEPARTMENT OF EDUCATION

[Docket No.: ED-2024-SCC-0053]

Agency Information Collection Activities; Submission to the Office of Management and Budget for Review and Approval; Comment Request; Evaluation of Transition Supports for Youth With Disabilities

AGENCY: Institute of Education Sciences (IES), Department of Education (ED).

ACTION: Notice.

SUMMARY: In accordance with the Paperwork Reduction Act (PRA) of 1995, the Department is proposing a revision of a currently approved information collection request (ICR).

DATES: Interested persons are invited to submit comments on or before August 21, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Yumiko Sekino, (202) 219-2046.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of Transition Supports for Youth with Disabilities.

OMB Control Number: 1850-0979.

Type of Review: Revision of a currently approved ICR.

Respondents/Affected Public: State, Local, and Tribal Governments.

Total Estimated Number of Annual Responses: 6,090.

Total Estimated Number of Annual Burden Hours: 3,217.

Abstract: This study will examine the effectiveness, implementation, and costs of two new strategies for supporting youth with disabilities and their families to prepare for a successful transition from high school to adult life. The first strategy is based on a model of self-determination instruction designed to help students develop skills such as goal setting, decision making, planning and apply those skills to plan and pursue their transition goals. The second strategy not only teaches self-determination skills but also provides individual mentoring to help students engage in and take active steps toward their post-school goals. The study will compare the intermediate and post-school outcomes for approximately 3,000 students who have an individualized education program and are approximately two years from high school graduation. Participating students in up to 100 schools and 16 districts will be randomly assigned to receive one of the study's strategies or continue with the regular transition supports they receive from their school. This revised information collection request adds instruments to measure outcomes and assess the implementation and cost-effectiveness of each strategy.

Dated: July 16, 2024.
Juliana Pearson,
PRA Coordinator, Strategic Collections and Clearance, Governance and Strategy Division, Office of Chief Data Officer, Office of Planning, Evaluation and Policy Development.

[FR Doc. 2024-16016 Filed 7-19-24; 8:45 am]

BILLING CODE 4000-01-P